DEPARTMENT OF THE INTERIOR

Bureau of Land Management

[OR-050-08-1610-DP; HAG 08-0051]

Notice of Availability of Draft John Day Basin Resource Management Plan and Draft Environmental Impact Statement, Oregon

AGENCY: Bureau of Land Management, Interior.

ACTION: Notice of availability.

SUMMARY: In accordance with the National Environmental Policy Act of 1969 and the Federal Land Policy and Management Act of 1976, the Bureau of Land Management (BLM) has prepared a Draft Resource Management Plan/Environmental Impact Statement (RMP/EIS) for the John Day Basin planning area and by this notice is announcing the opening of the comment period.

DATES: To ensure that they will be considered, BLM must receive written comments on the Draft RMP/EIS within 90 days following the date the Environmental Protection Agency publishes their Notice of Availability in the Federal Register. The BLM will announce future meetings or hearings and any other public involvement activities at least 15 days in advance through public notices, media news releases, and/or mailings.

ADDRESSES: You may submit comments by any of the following methods:

• Mail: John Day Basin RMP, BLM Prineville Field Office, 3050 NE 3rd Street, Prineville, OR 97754.

• Web Site: http://www.blm.gov/or/districts/prineville/plans/johndayrmp/index.php.

• E-mail: John_Day_Basin_RMP@blm.gov.

• Fax: (541) 416-6798.

Copies of the John Day Basin Draft RMP/EIS are available in the Prineville Field Office and on our project Web site (see addresses above), in addition to copies sent to individuals, organizations, and agencies on the John Day Basin RMP mailing list.

FOR FURTHER INFORMATION CONTACT: Ayn Shlisky, John Day Basin RMP Project Leader, BLM Prineville Field Office, 3050 NE 3rd Street, Prineville, OR 97754, phone (541) 416-6700, e-mail John_Day_Basin_RMP@blm.gov.

SUPPLEMENTARY INFORMATION: The planning area is located in parts of Sherman, Gilliam, Morrow, Umatilla, Grant, Wheeler, Jefferson, and Wasco Counties in the State of Oregon, covering 456,000 acres of BLM-managed public land. The existing RMPs for the area were completed in the 1980s: John Day RMP (Record of Decision signed 1985), Two Rivers RMP (1986), and Baker RMP (1989). The John Day RMP was amended in 1995, and in 2001, the John Day River Plan amended portions of all three of the RMPs. New information and changed circumstances are cause for the BLM to update these plans. Changed circumstances include, but are not limited to: Acquisition of 44,000 acres along North Fork John Day River, heightened public interest in BLM management actions, increasing demand for recreation activities on public lands, and expanded scientific knowledge and information pertaining to the conservation of aquatic species.

In February 2006, the BLM published a Notice of Intent to prepare an EIS and initiate revision/amendment of the existing RMPs. This was followed in March 2006 by five public open houses across the planning area and in Portland, Oregon to solicit public input on the issues to be addressed. The BLM published results of public input and an Analysis of the Management Situation in December 2006, followed by four public open houses across the planning area to solicit input on criteria to be used in development of alternatives. The BLM also met regularly with the John Day/Snake Resource Advisory Council and with representatives of local, state, and other Federal government agencies, as well as tribal governments. Additionally, the BLM maintained a public Web site and mailed periodic newsletters with information on the plan's status.

The Draft RMP/EIS analyzes five alternatives. Alternative 1 (no action) would continue the current management goals, objectives, and direction specified in the existing RMPs. Alternative 2 (BLM preferred alternative) would provide a mix of recreational opportunities, economic opportunities, and resource protection. Changes from Alternative 1 to 2 include: (a) Development of an interim road system and a process for developing a final transportation plan; (b) a reduction in areas “open” for motorized use off of roads; (c) synthesized management direction to achieve forest and upland health goals while providing for timber and forage production and wildfire prevention; (d) management direction for the North Fork John Day River lands that, in accordance with the land acquisition legislation, protects native fish, wildlife habitat, and public recreation; (e) addition of an integrated strategy to address fish, water quality, and water quantity together; (f) management direction for 11,929 acres containing wilderness characteristics not already protected by Wilderness or Wilderness Study Area (WSA) provisions; (g) use of “appropriate management response” rather than full suppression of all wildfires; and (h) a process for identifying and addressing management concerns in grazing allotments. Alternatives 3, 4, and 5 are similar to Alternative 2 in most instances, but provide variation in the amount of roadway open for motorized travel, the number of areas open to off-road motorized use, the number and classifications of river segments deemed suitable for inclusion in the National Wild and Scenic River System, and the number of acres where livestock grazing is permitted.

The BLM preferred alternative (Alternative 2) and Alternatives 3, 4, and 5 (the action alternatives) propose immediate designation of five new Areas of Critical Environmental Concern (ACEC), totaling 61,254 acres. This total does not include expansion of the existing Horn Butte ACEC from 5,999 to 7,152 acres, nor the 6,639-acre Black Canyon Research Natural Area (RNA)/ACEC, which overlaps a portion of the John Day Paleontological ACEC. The largest of the newly proposed ACECs is the 38,168-acre John Day Paleontological ACEC that would complement the adjacent John Day Fossil Beds National Monument and partially overlap with the existing Sutton Mountain WSA. Resource use limitations associated with designation of this ACEC where it overlaps the WSA would include closure to salable, locatable and leaseable minerals, a No Surface Occupancy (NSO) stipulation for energy and communication site development, exclusion from rights-of-way, management to Visual Resource Management Class II (VRM II) standards, and limiting vehicle use to designated roads and trails (OHV Limited). Use limitations associated with this ACEC where it does not overlap with the Sutton Mountain WSA would be similar except for a No Surface Occupancy (NSO) stipulation for mineral leasing, and avoidance of developments for energy, communication sites, and rights-of-way. Other proposed ACECs include the 6,639-acre Black Canyon RNA/ACEC, which would protect several sensitive plants and unique plant communities; use limitations include exclusion of livestock grazing, closure to off-highway motorized and non-motorized vehicle use (OHV Closed), an NSO stipulation for mineral leasing, closure to salable mineral, energy and communication site development, and exclusion of rights-of-way. The action alternatives also propose to add 1,152 acres to the existing 5,999-acre Horn Butte ACEC to protect Washington ground squirrel habitat. Use limitations for the expanded Horn Butte ACEC also include management to VRM II standards, prohibition of mechanical noxious weed control in Fourmile Canyon, NSO stipulation for mineral leasing, closure to salable minerals and energy and communication site development, and exclusion of rights-of-way. Also proposed is the addition of the North Fork John Day River (16,837 acres), Armstrong Canyon (3,885 acres) and Ferry Canyon (2,364 acres) ACECs to protect visual resource values; use limitations include management to VRM II standards, NSO stipulation for mineral leasing, closure to communication site development, and exclusion of rights-of-way. The action alternatives also eliminate the existing Spanish Gulch ACEC (333 acres). In the event that Congress releases any of the three WSAs along the lower John Day River (Lower John Day, North Pole Ridge, and Thirtymile) from WSA status, the released lands would be designated as ACECs to preserve scenic and other values. Use limitations would include management to VRM II standards, NSO stipulation for mineral leasing and closure to salable minerals, closure to energy and communication site development, and exclusion of rights-of-way (except for the existing PGE pipeline right-of-way). For more detailed information on each ACEC proposal, see the Special Designations section in the Draft RMP/EIS.

Please note that public comments and information submitted including names, street addresses, and e-mail addresses of respondents will be available for public review and disclosure at the above address during regular business hours (8 a.m. to 4 p.m.), Monday through Friday, except holidays.

Before including your address, phone number, e-mail address, or other personal identifying information in your written comments, you should be aware that your entire letter, including your personal identifying information, may be made publicly available at any time. While you can ask us in your letter to withhold your personal identifying information from public review, we cannot guarantee that we will be able to do so.

Authority: 40 CFR 1506.6, 43 CFR 1610.2.

Edward W. Shepard,
State Director, Oregon/Washington.

[FR Doc. E8-25926 Filed 10-29-08; 8:45 am]

BILLING CODE 4310-33-P